DEPARTMENT OF THE INTERIOR

National Park Service

[NPS-WASO-NAGPRA-NPS0038070; PPWOCRADN0-PCU00RP14.R50000]

Notice of Intended Disposition: Department of the Interior, Bureau of Reclamation, Upper Colorado Basin Region, Provo, UT

AGENCY: National Park Service, Interior.

ACTION: Notice.

SUMMARY: In accordance with the Native American Graves Protection and Repatriation Act (NAGPRA), U.S. Department of the Interior, Bureau of Reclamation (Reclamation), Upper Colorado Basin Region intends to carry out the disposition of human remains removed from Federal or Tribal lands to the lineal descendants, Indian Tribe, or Native Hawaiian organization with priority for disposition in this notice.

DATES: Disposition of the human remains or cultural items in this notice may occur on or after July 11, 2024. If no claim for disposition is received by June 11, 2025, the human remains in this notice will become unclaimed human remains.

ADDRESSES: Dr. Zachary Nelson, Bureau of Reclamation, Upper Colorado Basin Region, 302 East Lakeview Parkway, Provo, UT 84606, telephone (801) 379-1164, email znelson@usbr.gov.

SUPPLEMENTARY INFORMATION: This notice is published as part of the National Park Service's administrative responsibilities under NAGPRA. The determinations in this notice are the sole responsibility of Reclamation, Upper Colorado Basin Region, and additional information on the human remains in this notice, including the results of consultation, can be found in the related records. The National Park Service is not responsible for the identifications in this notice.

Abstract of Information Available

Based on the information available, human remains representing, at least, one individual has been reasonably identified. No associated funerary objects are present. On May 9, 2021, at Red Fleet Reservoir in Uintah County, Utah, human remains were discovered along the shore at the water line. No identified burial was located.

Determinations

The Reclamation Upper Colorado Basin Region has determined that:

• The human remains described in this notice represent the physical remains of one individual of Native American ancestry.

• The Ute Indian Tribe of the Uintah & Ouray Reservation, Utah has priority for disposition of the human remains described in this notice.

Claims for Disposition

Written claims for disposition of the human remains or cultural items in this notice must be sent to the appropriate official identified in this notice under ADDRESSES. If no claim for disposition is received by June 11, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after July 11, 2024. If competing claims for disposition are received, Reclamation Upper Colorado Basin Region must determine the most appropriate claimant prior to disposition. Requests for joint disposition of the human remains or cultural items are considered a single request and not competing requests. The Reclamation Upper Colorado Basin Region is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: May 31, 2024.
Melanie O'Brien,
Manager, National NAGPRA Program.

[FR Doc. 2024-12716 Filed 6-10-24; 8:45 am]

BILLING CODE 4312-52-P